DEPARTMENT OF JUSTICE

Notice of Lodging of Consent Decree Under the Comprehensive Environmental Response, Compensation, and Liability Act

Notice is hereby given that a proposed Consent Decree with Solutia, Inc., in the case of United States v. Mallinckrodt, Inc.; Shell Oil Company; and Solutia, Inc., Civil Action No. 4:02-1488, was lodged with the United States District Court for the Eastern District of Missouri on January 28, 2008. The United States filed the Complaint in 2002 on behalf of the Administrator of the Environmental Protection Agency pursuant to the Comprehensive Environmental Response, Compensation, and Liability Act of 1980, as amended, 42 U.S.C. 9601, et seq. (CERCLA), seeking recovery of costs incurred in responding to the release or threat of release of hazardous substances at or in connection with the Great Lakes Container Corporation Superfund Site at 42 Ferry Street in St. Louis, Missouri (Site). The complaint alleges claims against Solutia and two other defendants. The Consent Decree referred to in this Notice addresses only the claims against Solutia.

In 2003, Solutia filed a petition for reorganization under Chapter 11 of Title 11 of the Bankruptcy Code in the Bankruptcy Court for the Southern District of New York. On or about November 30, 2004, the United States filed a Proof of Claim asserting claims against Solutia under CERCLA for, among other things, EPA's response costs for the Site.

The Consent Decree will resolve the United States' claims against Solutia for the Site by providing that the United States shall be allowed a General Unsecured Claim, as that term is defined in Solutia's reorganization plan, in the amount of $3,600,000.00.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States v. Mallinckrodt, Inc., et al., DOJ Ref. No. 90-11-3-07280.

The proposed consent decree may be examined at the office of the United States Attorney, United States Attorney's Office, Eastern District of Missouri, Thomas F. Eagleton Courthouse, 111 South 10th Street, 20th Floor, St. Louis, Missouri, and at the Region VII Office of the Environmental Protection Agency, 901 North 5th Street, Kansas City, Kansas. During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the United States Treasury or, if by e-mail or fax, forward a check in that amount to the Consent Decree Library at the stated address.

Robert E. Maher, Jr.,
Assistant Section Chief, Environmental Enforcement Section, Environment and Natural Resources Division.

[FR Doc. E8-1922 Filed 2-1-08; 8:45 am]

BILLING CODE 4410-15-P